DEPARTMENT OF AGRICULTURE

Forest Service

Oregon Coast Provincial Advisory Committee

AGENCY: Forest Service, USDA.

ACTION: Notice of meeting.

SUMMARY: The Oregon Coast and Willamette Province Advisory Committee will meet in Corvallis, OR, February 22, 2006. The theme of the meeting is Introduction/Overview and Business Planning. The agenda includes: NW Forest Plan, BLM RMP Presentation, and Public Comment.

DATES: The meeting will be held February 22, 2006, beginning at 9 a.m.

ADDRESSES: The meeting will be held at the LaSells Stewart Center, 100 LaSells Stewart Center, Corvallis, Oregon 97331.

FOR FURTHER INFORMATION CONTACT: Joni Quarnstrom, Public Affairs Specialist, Siuslaw National Forest, 541-750-7075, or write to Siuslaw National Forest Supervisor, P.O. Box 1148, Corvallis, OR 97339.

SUPPLEMENTARY INFORMATION: The meeting is open to the public. Council Discussion is limited to Forest Service/BLM staff and Council Members. Lunch will be on your won. A public input session will be at 11:30 for fifteen minutes. The meeting is expected to adjourn around 4 p.m.

Dated: January 27, 2006.
Mary Zuschlag,
Supervisory Wildlife Biologist.

[FR Doc. 06-954 Filed 2-1-06; 8:45 am]

BILLING CODE 3410-11-M